SMALL BUSINESS ADMINISTRATION

[Declaration of Disaster #3347]

State of Texas; Amendment #7

In accordance with a notice received from the Federal Emergency Management Agency, dated October 17, 2001, the above-numbered Declaration is hereby amended to extend the deadline for filing applications for physical damages as a result of this disaster to October 31, 2001.

All other information remains the same, i.e., the deadline for filing applications for loans for economic injury is March 8, 2002.

(Catalog of Federal Domestic Assistance Program Nos. 59002 and 59008)
Dated: October 18, 2001.
Herbert L. Mitchell,
Associate Administrator for Disaster Assistance.

[FR Doc. 01-26733 Filed 10-23-01; 8:45 am]

BILLING CODE 8025-01-P